DEPARTMENT OF ENERGY

Federal Energy Regulatory Commission

Combined Notice of Filings #1

Take notice that the Commission received the following electric rate filings:

Docket Numbers: ER10-2137-028; ER14-2799-019; ER10-2138-029; ER10-2139-029; ER10-2140-028; ER10-2141-028; ER14-2187-022; ER21-258-005.

Applicants: Todd Solar LLC, Grand Ridge Energy Storage LLC, Grand Ridge Energy V LLC, Grand Ridge Energy IV LLC, Grand Ridge Energy III LLC, Grand Ridge Energy II LLC, Beech Ridge Energy Storage LLC, Beech Ridge Energy LLC.

Description: Response to 06/28/2023, Triennial Market Power Analysis for Northeast Region of Beech Ridge Energy LLC, et al.

Filed Date: 3/6/25.

Accession Number: 20250306-5287.

Comment Date: 5 p.m. ET 3/27/25.

Docket Numbers: ER25-700-002.

Applicants: Southwest Power Pool, Inc.

Description: Tariff Amendment: 4268R1 Blue Valley Grid GIA—Second Amended Filing to be effective 12/3/2024.

Filed Date: 3/11/25.

Accession Number: 20250311-5094.

Comment Date: 5 p.m. ET 4/1/25.

Docket Numbers: ER25-1546-000.

Applicants: PJM Interconnection, L.L.C.

Description: § 205(d) Rate Filing: Original GIA, Service Agreement No. 7582; AG1-508 to be effective 2/6/2025.

Filed Date: 3/10/25.

Accession Number: 20250310-5280.

Comment Date: 5 p.m. ET 3/31/25.

Docket Numbers: ER25-1549-000.

Applicants: Virginia Electric and Power Company.

Description: § 205(d) Rate Filing: Virginia Electric and Power Company submits Construction Agreement, SA No. 7504 to be effective 5/12/2025.

Filed Date: 3/11/25.

Accession Number: 20250311-5120.

Comment Date: 5 p.m. ET 4/1/25.

Docket Numbers: ER25-1550-000.

Applicants: Tri-State Generation and Transmission Association, Inc.

Description: § 205(d) Rate Filing: Amendment to Rate Schedule FERC No. 35 to be effective 5/11/2025.

Filed Date: 3/11/25.

Accession Number: 20250311-5170.

Comment Date: 5 p.m. ET 4/1/25.

Docket Numbers: ER25-1551-000.

Applicants: Duke Energy Indiana, LLC.

Description: § 205(d) Rate Filing: DEI—Canadian Solar Facilities Service Agreement RS No. 286 to be effective 5/11/2025.

Filed Date: 3/11/25.

Accession Number: 20250311-5183.

Comment Date: 5 p.m. ET 4/1/25.

Docket Numbers: ER25-1552-000.

Applicants: New York Independent System Operator, Inc., Niagara Mohawk Power Corporation.

Description: § 205(d) Rate Filing: New York Independent System Operator, Inc. submits tariff filing per 35.13(a)(2)(iii: NYISO-National Grid Joint 205: SGIA Millers Grove Solar SA2868 to be effective 2/25/2025.

Filed Date: 3/11/25.

Accession Number: 20250311-5215.

Comment Date: 5 p.m. ET 4/1/25.

Docket Numbers: ER25-1553-000.

Applicants: Tri-State Generation and Transmission Association, Inc.

Description: § 205(d) Rate Filing: Initial Filing of Rate Schedule FERC No. 404 to be effective 5/11/2025.

Filed Date: 3/11/25.

Accession Number: 20250311-5240.

Comment Date: 5 p.m. ET 4/1/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 11, 2025.
Debbie-Anne A. Reese,
Secretary.

[FR Doc. 2025-04313 Filed 3-17-25; 8:45 am]

BILLING CODE 6717-01-P